DEPARTMENT OF DEFENSE

Office of the Secretary

Meetings of the Defense Base Closure and Realignment Commission

AGENCY: Department of Defense.

ACTION: Notice—open and partially closed meetings.

SUMMARY: Pursuant to the Federal Advisory Committee Act (FACA), as amended, notice is hereby given that the Defense Base Closure and Realignment Commission will hold Commission Meetings on Tuesday, May 3, 2005 and Wednesday, May 4, 2005.

In accordance with the Federal Advisory Committee Act of 1972, as amended, it has been determined that the part of the Commission's Meeting on May 4, 2005 concerns matters sensitive to the interest of national security and will be closed to the public as authorized by 5 U.S.C. 552B(c)(1)(1982).

With the exception of a partial closed meeting on May 4, 2005 both Commission Meetings will be open to the public. On May 4, 2005, the first hour of the Commission Meeting will be open to the public, and following the first hour of the Meeting the Commission will close the Meeting to the public to receive classified briefings from the Department of Defense.

This notice is being published in less than the 15-calendar days required by law due to the delay in the establishment of the Commission and Commission staff.

With the exception of receiving classified briefings on May 4th, the Commission, in keeping with the spirit and intent of the Federal Advisory Committee Act of 1972, and subject to the availability of space will open its Meetings to the public and provide them an opportunity to observe the proceedings of the Commission.

The morning session on May 3, 2005 will consist of the swearing in of the Commissioners; presentation on the BRAC Schedule, Defense Base Closure and Realignment Act of 1990 (as amended through fiscal year 2005 Defense Authorization Act), and previous BRAC efforts by the Congressional Research Service and the General Accountability Office.

The afternoon session on May 3, 2005 will discuss the current and long-term threat confronting U.S. National Security by the Director of National Intelligence or his designate(s).

On May 4, 2005 the Commission Meeting will involve discussions with senior Defense officials on the DoD Force Structure Plan and the Secretary of Defense Guidance on the Quadrennial Review. Following an unclassified discussion with the senior Defense officials the Commission will close the Meeting and hear classified briefings from these Defense officials.

DATES: May 3, 2005—9:30 a.m. to 12:30 p.m., and 1:30 p.m. to 4:30 p.m.; May 4, 2005—9:30 a.m. to 12:30 p.m.

ADDRESSES: House Cannon Office Building, Room 334, Washington, DC 20515.

FOR FURTHER INFORMATION CONTACT: Any member of the public wishing further information concerning this meeting or wishing to submit comments must contact: Mr. Charles Battaglia, Designated Federal Officer/Executive Director, Defense Base Closure and Realignment Commission, 2521 South Clark Street, Suite 600, Arlington, Virginia 22202. Telephone: (703) 799-2952. DSN# 221-2952. c.battaglia@wso.whs.mil.

Dated: April 28, 2005.
L.M. Bynum,
Alternate OSD Federal Register Liaison Officer, Department of Defense.

[FR Doc. 05-8810 Filed 4-28-05; 8:45 am]

BILLING CODE 5001-06-M